FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
February 1, 2020 thru February 29, 2020
02/03/2020
20200563 | G | SIG Growth Equity Funds Limited Partnership, LLLP; HighRadius Corporation; SIG Growth Equity Funds Limited Partnership, LLLP.
20200611 | G | Marlin Equity V, L.P.; Marlin Heritage II, L.P.; Marlin Equity V, L.P.
20200641 | G | R1 RCM Inc.; Clearsight Group Holdings, LLC; R1 RCM Inc.
20200649 | G | PACMAN UK TOPCO LTD; Novacap TMT IV, L.P.; PACMAN UK TOPCO LTD.
02/05/2020
20200620 | G | PurchaserCo; AIPCF VI Global Corp Holding LP; PurchaserCo.
20200644 | G | Marc Grandisson; Arch Capital Group Ltd.; Marc Grandisson.
02/07/2020
20200589 | G | RPI International Holdings 2019, LP; Epizyme, Inc.; RPI International Holdings 2019, LP.
20200638 | G | Solaris Midstream Holdings, LLC; Concho Resources Inc.; Solaris Midstream Holdings, LLC.
20200646 | G | Oaktree Special Situations Fund II AIF (Cayman), L.P.; Tailored Brands, Inc.; Oaktree Special Situations Fund II AIF (Cayman), L.P.
20200650 | G | Aspen Cayman Holdings, LLC; Aptos (Cayman) LP; Aspen Cayman Holdings, LLC.
20200655 | G | Moody's Corporation; Vista Foundation Fund III, L.P.; Moody's Corporation.
20200657 | G | Stillfront Group AB; Storm8, Inc.; Stillfront Group AB.
20200669 | G | Bright Health, Inc.; Allied Physicians of California, A Professional Medical Corp; Bright Health, Inc.
20200670 | G | NMS III AIV, LP; Siguler Guf Small Buyout Opportunities Fund III, LP; NMS III AIV, LP.
02/10/2020
20200663 | G | AMN Healthcare Services, Inc.; Kinderhook Capital Fund IV, L.P.; AMN Healthcare Services, Inc.
20200672 | G | Pentland Group Limited; PVH Corp.; Pentland Group Limited.
20200678 | G | Lee Enterprises, Incorporated; Berkshire Hathaway Inc.; Lee Enterprises, Incorporated.
20200684 | G | Apollo Investment Fund VII, L.P.; EP Energy Corporation; Apollo Investment Fund VII, L.P.
20200685 | G | AOP VII, (EPE Intermediate), L.P.; EP Energy Corporation; AOP VII, (EPE Intermediate), L.P.
20200687 | G | Elliott International Limited; EP Energy Corporation; Elliott International Limited.
20200688 | G | Elliott Associates, L.P.; EP Energy Corporation; Elliott Associates, L.P.
02/13/2020
20200642 | G | Clarivate Analytics Plc; Piramal Enterprises Limited; Clarivate Analytics Plc.
20200671 | G | Clearlake Capital Partners V, L.P.; Olympus Growth Fund VI, L.P.; Clearlake Capital Partners V, L.P.
20200686 | G | North Haven Infrastructure Partners III SCSp; AI Aqua (Cayman) Holdings Limited; North Haven Infrastructure Partners III SCSp.
02/14/2020
20191568 | S | Agnaten SE; Ares Corporate Opportunities Fund IV, L.P.; Agnaten SE.
20200607 | G | Mr. Zhiqiang Lu; Genworth Financial, Inc.; Mr. Zhiqiang Lu.
20200690 | G | Intercontinental Exchange, Inc.; B2S Holdings, Inc.; Intercontinental Exchange, Inc.
20200692 | G | Bank of Montreal; Clearpool Group, Inc.; Bank of Montreal.
20200693 | G | Premier Healthcare Alliance, L.P.; Greater New York Hospital Association; Premier Healthcare Alliance, L.P.
20200697 | G | W.L. Hunt; William F. Simmons; W.L. Hunt.
20200698 | G | Cushman & Wakefield plc; Woody L. Hunt; Cushman & Wakefield plc.
20200700 | G | Penn National Gaming, Inc.; The Chernin Group, LLC; Penn National Gaming, Inc.
20200701 | G | Resolution Life Group Holdings L.P.; Voya Financial, Inc.; Resolution Life Group Holdings L.P.
20200703 | G | Mizuho Leasing Company, Limited; Marubeni Corporation; Mizuho Leasing Company, Limited.
20200707 | G | Odyssey Investment Partners Fund V, LP; Blue Sea Capital Fund I LP; Odyssey Investment Partners Fund V, LP.
20200708 | G | AP IX Euro Leverage, SCSp; Cerberus Institutional Partners, L.P.; AP IX Euro Leverage, SCSp.
20200710 | G | Toyota Motor Corporation; Pony.ai, Inc.; Toyota Motor Corporation.
20200714 | G | AffiniPay Parent, LLC; Amy Porter; AffiniPay Parent, LLC.
20200719 | G | EQT Mid Market Europe Limited Partnership; Christian Fauvelais; EQT Mid Market Europe Limited Partnership.
02/18/2020
20200621 | G | Neptune Acquisitions Limited Partnership; Maxar Technologies Inc.; Neptune Acquisitions Limited Partnership.
20200709 | G | IDEX Corporation; Flow Management Devices, LLC; IDEX Corporation.
20200712 | G | David C. Dickerson; 2297984 Ontario Limited; David C. Dickerson.
20200716 | G | Stone Canyon Industries Holdings LLC; Kissner Co-Investment Holdings LP; Stone Canyon Industries Holdings LLC.
20200718 | G | CD&R Fund X Energy B, L.P.; CenterPoint Energy, Inc.; CD&R Fund X Energy B, L.P.
20200722 | G | ABRY Partners IX, L.P.; Hersha Partners, LLC; ABRY Partners IX, L.P.
02/19/2020
20200682 | G | Westrock Coffee Holdings, LLC; Cott Corporation; Westrock Coffee Holdings, LLC.
02/21/2020
20190995 | S | One Rock Capital Partners II, LP; Bain Capital Fund XI, L.P.; One Rock Capital Partners II, LP.
02/24/2020
20200720 | G | Computershare Limited; Frank A. Rodriguez; Computershare Limited.
20200721 | G | Dhragus Foundation; McDermott International; Dhragus Foundation.
20200723 | G | Beaumont Health; Summa Health System Community; Beaumont Health.
20200735 | G | Nautic Partners IX, L.P.; Stichting Bravak; Nautic Partners IX, L.P.
20200737 | G | Ferrari Group Holdings, L.P.; Forescout Technologies, Inc.; Ferrari Group Holdings, L.P.
20200750 | G | Vifor Pharma Ltd.; Sarepta Therapeutics, Inc.; Vifor Pharma Ltd.
20200753 | G | Vertex Aggregator LP; Francisco Partners III (Cayman), L.P.; Vertex Aggregator LP.
02/25/2020
20200652 | G | Mudrick Capital Acquisition Corporation; Hycroft Mining Corporation; Mudrick Capital Acquisition Corporation.
20200662 | G | The Toro Company; Steiner Family Dynasty Trust; The Toro Company.
20200730 | G | Legrand S.A.; Focal Point, L.L.C.; Legrand S.A.
20200738 | G | First American Financial Corporation; Docutech Transfer, LLC; First American Financial Corporation.
02/26/2020
20200699 | G | Rayonier Inc.; Pope Resources, A Delaware Limited Partnership; Rayonier Inc.
20200736 | G | Nokia Corporation; Marlin Equity IV, L.P.; Nokia Corporation.
20200742 | G | CD&R Fund X Waterworks B, L.P.; Edward Reed Mack, III; CD&R Fund X Waterworks B, L.P.
02/28/2020
20200765 | G | Troutman Sanders LLP; Pepper Hamilton LLP; Troutman Sanders LLP.
20200767 | G | Kameda Seika Co., Ltd.; Mitsubishi Corporation; Kameda Seika Co., Ltd.
20200768 | G | Infosys Limited; Outbox Systems, Inc.; Infosys Limited.
20200770 | G | ICV Partners IV, L.P.; WV AIV III (MG), LLC; ICV Partners IV, L.P.
20200774 | G | Apax X USD L.P.; North Haven Cadence Aggregator, LLC; Apax X USD L.P.
20200775 | G | Mondelez International, Inc.; Agnaten SE; Mondelez International, Inc.

FOR FURTHER INFORMATION CONTACT: Theresa Kingsberry (202-326-3100), Program Support Specialist, Federal Trade Commission Premerger Notification Office, Bureau of Competition, Room CC-5301, Washington, DC 20024.

By direction of the Commission.
April J. Tabor,
Acting Secretary.

[FR Doc. 2020-05053 Filed 3-11-20; 8:45 am]

BILLING CODE 6750-01-P